DELAWARE RIVER BASIN COMMISSION

Notice of Commission Meeting and Public Hearing

Notice is hereby given that the Delaware River Basin Commission will hold an informal conference followed by a public hearing on Wednesday, July 25, 2001. The hearing will be part of the Commission's regular business meeting. Both the conference session and business meeting are open to the public and will be held at the Commission offices at 25 State Police Drive, West Trenton, New Jersey.

The conference among the Commissioners and staff will begin at 9:30 a.m. Topics of discussion will include a report on the Watershed Advisory Council meeting of July 24, 2001; status of the Current Comprehensive Plan; status of PCB Point Source Discharge Monitoring; and summaries of the Toxics Advisory Committee meetings of June 28 and July 18, 2001. The conference also will include presentations on Sustainable Wastewater Management Within the Tri-State Middle Delaware Region and Cooperative Inter-Agency Development of a Delaware River Water Trail.

The subjects of the public hearing to be held during the 1:00 p.m. business meeting include, in addition to the dockets listed below, a resolution confirming the appointment of Acting General Counsel to the Commission.

The dockets scheduled for public hearing are as follows:

1. North Wales Water Authority D-90-6 CP (Revision). An application for the revision of a ground water withdrawal project to reallocate the existing 210 million gallons (mg)/30 days to 195 mg/30 days for the applicant's public water distribution system from Wells Nos. 1, 4B, 8, 9, 10, 11, 14, 17, 21, 22, 25, 31 and 34 in the Stockton, Lockatong and Brunswick Formations. The project is located in North Wales Borough, Upper Gwynedd, Lower Gwynedd, Whitpain, Upper Dublin and Montgomery Townships in Montgomery County; and New Britain Township in Bucks County, all in the Southeastern Pennsylvania Ground Water Protected Area.

2. Walnutport Authority D-90-87 CP RENEWAL. An application for the renewal of a ground water withdrawal project to supply up to 8 mg/30 days of water to the applicant's public water distribution system from existing Wells Nos. 1 through 5 in the Martinsburg Formation. No increase in maximum allocation is proposed. The project is located in Walnutport Borough and Lehigh Township, Northampton County, Pennsylvania.

3. Yardley Country Club D-2000-32. An application for approval of a ground water withdrawal project to supply up to 15 mg/30 days of water to the applicant's golf course irrigation system from new Well No. 1 in the Stockton Formation and to limit the withdrawal from all sources to 15 mg/30 days. The project is located in Yardley Borough, Bucks County, Pennsylvania.

4. Kimberton Golf Club D-2001-4. An application for approval of a ground water withdrawal project to supply up to 4.2 mg/30 days of water to the applicant's golf course irrigation system from newly redeveloped Well No. PW-1. The project well is located in the Stockton Formation in East Vincent Township, Chester County in the Southeastern Pennsylvania Ground Water Protected Area.

5. Heritage Building Group D-2001-8. An application for approval of a ground water withdrawal project to supply up to 6.5 mg/30 days of water to irrigate the applicant's Heritage Hills Golf Club from new Wells Nos. TW-1 and TW-2. The project is located in the Brunswick Formation in Limerick and Lower Pottsgrove Townships, Montgomery County in the Southeastern Pennsylvania Ground Water Protected Area.

6. New Jersey Department of Corrections D-2001-22 CP. An application to rerate the Bayside State Prison sewage treatment plant (STP) from 0.55 million gallons per day (mgd) to 0.61 mgd and continue to provide advanced secondary treatment. The STP serves only the correctional facilities and will continue to discharge through the existing outfall to Riggins Ditch, a tributary of Delaware Bay. The project is located just west of Delsea Drive (State Route 47) in Maurice River Township, Cumberland County, New Jersey.

7. S.W.E.C, LLC D-2001-28. An application to provide a non-utility electric power generator with an average of 8.5 mgd of water diverted via the USX Fairless Works intake on the Delaware River. USX's current surface water allocation is sufficient for supply of the project water demand. The proposed natural gas-fired combustion turbines and steam turbine generators are designed to produce 1,190 megawatts (MW) of electric power for the Pennsylvania-Jersey-Maryland (PJM) grid. The project will be constructed on a 45 acre site within the USX Industrial Park off Bordentown Road in Falls Township, Bucks County, Pennsylvania. Following average consumptive losses of 6.15 mgd to evaporation and drift, approximately 2.35 mgd of wastewater will be routed to the USX wastewater treatment facility prior to discharge to the Delaware River in Delaware River Basin Commission Water Quality Zone 2.

8. Joyfor Joint Venture D-2001-32. An application to construct a 0.05 mgd tertiary level STP to serve a proposed adjacent shopping center and hotel located approximately 6,000 feet northeast of the intersection of State Route 3 and Providence Road in Newtown Township, Delaware County, Pennsylvania. Treated effluent will be discharged to an unnamed tributary of Crum Creek, locally known as Reese's Run.

9. Village of Delhi D-2001-33 CP. An application to upgrade and expand a 0.515 mgd secondary level STP to provide tertiary treatment of 0.815 mgd. The plant is located just south of State Route 10, about 1 mile west of State Route 28 in the Town of Delhi, Delaware County, New York. The project will continue to serve the residents of Delhi Village and will be rerated after the upgrade to receive and process the pretreated waste from two small industries, which will discontinue their own existing discharge. The STP effluent will continue to be discharged via the existing outfall to the West Branch Delaware River, about 22 river miles upstream from the Cannonsville Reservoir in Delaware River Basin Commission Water Quality Zone W1.

In addition to the public hearing, the Commission will address the following at its 1:00 p.m. business meeting: minutes of the June 6, 2001 business meeting; announcements; report on hydrologic conditions; reports by the Executive Director and Acting General Counsel; public dialogue; and resolutions (1) authorizing the continued procurement of services for the Commission's Estuary Model Peer Review Team; (2) authorizing the Executive Director to issue an RFP for sample collection and analysis to support the development of TMDLs for PCBs, chlorinated pesticides and metals in the Delaware Estuary; (3) approving an investment policy for the Commission; and (4) authorizing the Executive Director to contract with two asset management firms.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary, Pamela M. Bush, directly at 609-883-9500 ext. 203 or through the New Jersey Relay Service at 1-800-852-7899 (TTY) to discuss how the Commission may accommodate your needs.

July 10, 2001.
Pamela M. Bush,
Commission Secretary and Assistant General Counsel.

[FR Doc. 01-17958 Filed 7-17-01; 8:45 am]

BILLING CODE 6360-01-P